DEPARTMENT OF ENERGY

Peer Review Best Practices Workshop

AGENCY: Department of Energy, Office of Energy Efficiency and Renewable Energy.

ACTION: Notice of public meeting.

SUMMARY: The DOE Office of Energy Efficiency and Renewable Energy (EERE) funds a diverse portfolio of research, development, demonstration and deployment programs and has used a variety of peer review approaches to select the best projects to perform this work. To ensure that EERE continues to fund a robust portfolio, an information exchange will be held on recent studies of federal review processes and processes different federal and non-federal organizations have chosen to select research and development projects, and on “best practices” for reviewing and selecting project proposals. The workshop will explore classic peer review processes such as those at NSF, NIH, and the DOE Office of Science for advanced research projects, as well as approaches like those of DARPA or NIST for projects focused on development and demonstration projects having significant industry cost share. To attend the meeting, please e-mail JoAnn.Milliken@ee.doe.gov. Please identify your affiliation and state whether or not you plan to provide comments during the public comment period.

DATES: Tuesday, January 26, 2010 8:30 a.m.-3 p.m.

ADDRESSES: 1307 New York Avenue, NW., Suite 400, Washington, DC 20005-4722.

FOR FURTHER INFORMATION CONTACT: JoAnn.Milliken@ee.doe.gov

SUPPLEMENTARY INFORMATION: Purpose of the Meeting: To examine best practices for peer review of research, development, demonstration and deployment projects.

Tentative Agenda (Subject To Change)

8:30 a.m. Continental Breakfast

9 a.m. Opening Remarks—Henry Kelly, Principal Deputy Assistant Secretary, DOE/EERE

9:15 a.m. Keynote Address: Bill Bonnvillian, MIT

9:45 a.m. Panel 1: Basic Science—NSF, NIH, DOE/SC, UCSB

11 a.m. Break

11:15 a.m. Panel 2: Applied Research, Technology Development—NIST, ARPA-E, ONR, MIT

12:30 p.m. Lunch

1 p.m. Panel 3: Corporate/Business—Dow, Other TBD

2:15 p.m. Roundtable

3 p.m. Public Comments

3:15 p.m. Adjourn

Public Participation: In keeping with procedures, members of the public are welcome to observe the business of the workshop and to make oral statements during a specified period for public comment. The public comment period will take place between 3:00 p.m. and 3:15 p.m. on January 26, 2010. To attend the meeting and/or to make oral statements regarding any of the items on the agenda, e-mail JoAnn.Milliken@ee.doe.gov. Please indicate if you will be attending the meeting, whether you want to make an oral statement, and what organization you represent (if appropriate). Members of the public will be heard in the order in which they sign up for the public comment period. Oral comments should be limited to two minutes in length. Reasonable provision will be made to include the scheduled oral statements on the agenda. If you would like to file a written statement, you may do so either by submitting a hard copy at the meeting or by submitting an electronic copy to JoAnn.Milliken@ee.doe.gov.

Minutes: The minutes of the meeting will be available for public review at http://eere.energy.gov.

Issued at Washington, DC, on January 21, 2010.
Henry Kelly,
Principal Deputy Assistant Secretary, Energy Efficiency and Renewable Energy.

[FR Doc. 2010-1490 Filed 1-25-10; 8:45 am]

BILLING CODE 6450-01-P